DEPARTMENT OF ENERGY

Federal Energy Regulatory Commission

[Docket No. RP02-361-018]

Gulfstream Natural Gas System, L.L.C.; Notice of Negotiated Rates

December 16, 2003.

Take notice that on December 10, 2003, Gulfstream Natural Gas System, L.L.C. (Gulfstream) tendered for filing as part of its FERC Gas Tariff, Original Volume No. 1, Original Sheet No. 8O, reflecting an effective date of November 1, 2003.

Gulfstream states that this filing is being made to implement negotiated rate transactions under Rate Schedules ITS and PALS, respectively, pursuant to Section 31 of the General Terms and Conditions of Gulfstream's FERC Gas Tariff.

Gulfstream states that Original Sheet No. 8O identifies and describes the negotiated rate transactions, including the exact legal name of the relevant shipper, the negotiated rates, the rate schedules, the contract terms, and the contract quantities. Gulfstream also states that Sheet 8O includes footnotes where necessary to provide further details on the transactions listed thereon.

Gulfstream states that copies of its filing have been mailed to all affected customers and interested state commissions.

Any person desiring to be heard or to protest said filing should file a motion to intervene or a protest with the Federal Energy Regulatory Commission, 888 First Street NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “e-Filing” link.

Magalie R. Salas,
Secretary.

[FR Doc. E3-00626 Filed 12-23-03; 8:45 am]

BILLING CODE 6717-01-P